DEPARTMENT OF TRANSPORTATION

Office of the Secretary

[Docket ID Number: DOT-OST-2010-0054]

Notice of Submission of Proposed Information Collection to OMB Agency Request for Reinstatement of Previously Approved Collections: Nondiscrimination on the Basis of Disability in Air Travel: Reporting Requirements for Disability-Related Complaints

AGENCY: Office of the Secretary (OST), Department of Transportation (Department or DOT).

ACTION: Notice and request for comments.

SUMMARY: In accordance with the Paperwork Reduction Act of 1995 (44 U.S.C. Chapter 35, as amended), this notice announces the DOT's intention to reinstate an Office of Management and Budget (OMB) Control Number 2105-0551, “Reporting Requirements for Disability-Related Complaints.” The information collection is related to a requirement in the Code of Federal Regulations (CFR) for carriers to report annually to the Department the number of disability-related complaints they receive.

DATES: Interested persons are invited to submit comments regarding this proposal. Written comments should be submitted by July 11, 2022.

ADDRESSES: You may file comments identified by the docket number DOT-OST-2010-0054 by any of the following methods:

• Federal eRulemaking Portal: Go to http://www.regulations.gov and follow the online instructions for submitting comments. (You may access comments received for this notice at http://www.regulations.gov by searching docket DOT-OST-2010-0054.)

• Mail: Docket Management Facility, U.S. Department of Transportation, 1200 New Jersey Ave. SE, West Building Ground Floor Room W12-140, Washington, DC 20590-0001;

• Hand delivery: West Building Ground Floor, Room W12-140, 1200 New Jersey Ave. SE, between 9 a.m. and 5 p.m., Monday through Friday, except Federal holidays. The telephone number is 202-366-9329.

Instructions: You must include the agency name and docket number DOT-OST-2010-0054 at the beginning of your comment. All comments received will be posted without change to https://www.regulations.gov, including any personal information provided.

Privacy Act: Anyone is able to search the electronic form of all comments received in any of DOT's dockets by the name of the individual submitting the comment (or signing the comment, if submitted on behalf of an association, business, labor union, etc.). You may review DOT's complete Privacy Act Statement in the Federal Register published on April 11, 2000 (65 FR 19477-78).

FOR FURTHER INFORMATION CONTACT: John Wood, Office of Aviation Consumer Protection, U.S. Department of Transportation, 1200 New Jersey Avenue SE, Washington, DC 20590, Telephone Number (202) 366-9342 (voice), (202) 366-7152 (fax), john.wood@dot.gov (email). Arrangements to receive this document in an alternative format may be made by contacting the above-named individual.

SUPPLEMENTARY INFORMATION:

OMB Control Number: 2105-0551.

Title: Reporting Requirements for Disability-Related Complaints.

Type of Request: Reinstatement of information collections.

Background: The Department requires U.S. and foreign air carriers operating to, from and within the United States that conduct passenger-carrying service with at least one large aircraft to record complaints that they receive alleging inadequate accessibility or discrimination on the basis of disability. The carriers must also categorize these complaints according to the type of disability and nature of complaint, prepare a summary report annually of the complaints received during the preceding calendar year, submit the report to the Department's Office of Aviation Consumer Protection, and retain copies of correspondence and records of action taken on the reported complaints for three years. Carriers are also required to submit their annual report via the World Wide Web except if the carrier can demonstrate an undue burden by doing so and receives permission from the Department to submit it in an alternative manners. The first required report covered disability-related complaints received by carriers during calendar year 2004, was due to the Department on January 31, 2005. Carriers have since submitted subsequent reports by the last Monday in January for the prior calendar year.

DOT is publishing this notice to announce its intent to seek reinstatement of the previously approved information collections described above under OMB Control Number 2105-0551. OMB authorization of the information collections expired on April 30, 2022.

The Paperwork Reduction Act of 1995 (PRA) and its implementing regulations, 5 CFR part 1320, require Federal agencies to issue two notices seeking public comment on information collection activities before OMB may approve paperwork packages. A Federal agency generally cannot conduct or sponsor a collection of information, and the public is generally not required to respond to an information collection, unless it is approved by the OMB under the PRA and displays a currently valid OMB Control Number. In addition, notwithstanding any other provisions of law, no person shall generally be subject to monetary penalty for failing to comply with a collection of information if the collection of information does not display a valid OMB Control Number. See 5 CFR 1320.5(a) and 1320.6.

For each of these information collections, the title, a description of the respondents, and an estimate of the annual recordkeeping and periodic reporting burden are set forth below.¹

¹ DOT did not use calendar year 2020 data for its estimates because airline operations were not representative of a typical year due to the unprecedented impact of COVID-19 on air transportation that year.

(1) Requirement to record and categorize complaints received.

Respondents: U.S. air carriers and foreign air carriers operating to and from the United States that conduct passenger-carrying service with at least one large aircraft.

Number of Respondents: 176 (the average of the total number of respondents that reported for Calendar Years (CYs) 2018, 2019, and 2021).

Estimated Annual Burden on Respondents: 0-2,431 hours (145,905 minutes) a year for each respondent (estimated time to record and categorize each complaint (15 minutes) multiplied by the lowest number of complaints and the average of the highest number of complaints received during CYs 2018, 2019, and 2021 (0-9,727)).

Estimated Total Annual Burden: 7,854 hours (471,255 minutes) for all respondents (time to record and categorize each complaint (15 minutes) multiplied by the average total number of complaints received during CYs 2018, 2019, and 2021 (31,417) for all respondents).

Frequency: 0-9,727 complaints (The range of the lowest number of complaints and an average of the highest number of complaints received by any respondent during CYs 2018, 2019, and 2021).

(2) Requirement to prepare and submit annual report.

Respondents: U.S. air carriers and foreign air carriers operating to and from the United States that conduct passenger-carrying service with at least one large aircraft.

Number of Respondents: 176 (the average of the total number of respondents that reported for CYs 2018, 2019, and 2021).

Estimated Annual Burden on Respondents: 30 minutes a year per each respondent.

Estimated Total Annual Burden: 88 hours (5,280 minutes) for all respondents (estimate annual burden [30 minutes] multiplied by the total number of respondents (176)).

Frequency: 1 report to DOT per year for each respondent.

(3) Requirement to retain correspondences and records of action taken on all disability-related complaints.

Respondents: U.S. air carriers and foreign air carriers operating to and from the United States that conduct passenger-carrying service with at least one large aircraft.

Number of Respondents: 176 (the average of the total number of respondents that reported for CYs 2018, 2019, and 2021).

Estimated Annual Burden on Respondents: 0-811 hours (0-48,635 minutes) for each respondent (the estimated time it will take for each respondent to retain or save the correspondences and records of action taken on disability-related complaints (5 minutes) multiplied by the lowest number of complaints and the average of the highest number of complaints received per respondent during CYs 2018, 2019, and 2021 (0-9,727)).

Estimated Total Annual Burden: 2,618 hours (157,085 minutes) for all respondents (time to retain or save the correspondences and records of action taken on disability-related complaints (5 minutes) multiplied by the average total number of complaints received during CYs 2018, 2019, and 2021 (31,417) for all respondents.

Frequency: 0-9,727 complaints per year for each respondent (The range of the lowest number of complaints and an average of the highest number of complaints received by any respondent during CYs 2018, 2019, and 2021).

Comments Invited

We invite comments on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents.

All responses to this notice will be summarized and included in the request for OMB approval. All comments will also become a matter of public record on the docket.

Authority: The Paperwork Reduction Act of 1995; 44 U.S.C. chapter 35, as amended; and 59 CFR 1.48.

Issued in Washington, DC, on May 4, 2022.
Blane Abaineh Workie,
Assistant General Counsel, Office of Aviation Consumer Protection.

[FR Doc. 2022-09942 Filed 5-9-22; 8:45 am]

BILLING CODE 4910-9X-P